DEPARTMENT OF HOMELAND SECURITY

Federal Emergency Management Agency

44 CFR Part 67

[Docket ID FEMA-2008-0020; Docket No. FEMA-B-1043]

Proposed Flood Elevation Determinations

AGENCY: Federal Emergency Management Agency, DHS.

ACTION: Proposed rule; correction.

SUMMARY: On March 25, 2009, FEMA published in the Federal Register a proposed rule that contained an erroneous table. This document provides corrections to that table, to be used in lieu of the information published. The table provided in this document represents the flooding sources, location of referenced elevations, effective and modified elevations, and communities affected for Cumberland County, Kentucky, and Incorporated Areas. Specifically, it addresses the following flooding sources: Bear Creek (backwater effects from Cumberland River), Big Renox Creek (backwater effects from Cumberland River), Big Whetstone Creek (backwater effects from Cumberland River), Big Willis Creek (backwater effects from Cumberland River), Brush Creek (backwater effects from Cumberland River), Carter Branch West (backwater effects from Cumberland River), Casey Branch (backwater effects from Dale Hollow Lake), Cedar Creek North (backwater effects from Cumberland River), Clover Creek (backwater effects from Cumberland River), Cumberland River, Cumberland River Tributary 32 (backwater effects from Cumberland River), Cumberland River Tributary 55 (backwater effects from Cumberland River), Cumberland River Tributary 57 (backwater effects from Cumberland River), Dale Hollow Lake (Obey River), Fanny's Creek (backwater effects from Dale Hollow Lake), Galloway Creek (backwater effects from Cumberland River), Galloway Creek Tributary 3 (backwater effects from Cumberland River), Goose Creek (backwater effects from Cumberland River), Haggard Branch (backwater effects from Cumberland River), Hendricks Creek (backwater effects from Dale Hollow Lake), Hoot Branch (backwater effects from Dale Hollow Lake), Hoot Branch Tributary 1 (backwater effects from Dale Hollow Lake), Judio Creek (backwater effects from Cumberland River), Lewis Creek (backwater effects from Cumberland River), Lewis Creek Tributary 5 (backwater effects from Cumberland River), Little Whetstone Creek (backwater effects from Cumberland River), Little Willis Creek (backwater effects from Cumberland River), Little Willis Creek Tributary 1 (backwater effects from Cumberland River), Marrowbone Creek (backwater effects from Cumberland River), Mud Camp Creek (backwater effects from Cumberland River), Otter Creek (backwater effects from Cumberland River), Perry Cary Hollow (backwater effects from Cumberland River), Potters Creek (backwater effects from Cumberland River), Raft Creek (backwater effects from Cumberland River), Riddle Prong (backwater effects from Dale Hollow Lake), Sulphur Creek (backwater effects from Dale Hollow Lake), and Williams Creek (backwater effects from Dale Hollow Lake).

DATES: Comments are to be submitted on or before November 30, 2011.

ADDRESSES: You may submit comments, identified by Docket No. FEMA-B-1043, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 74 FR 12807 in the March 25, 2009, issue of the Federal Register, FEMA published a table under the authority of 44 CFR 67.4. The table, entitled “Cumberland County, Kentucky and Incorporated Areas,” addressed the flooding sources Cumberland River and Dale Hollow Lake (Obey River). That table contained inaccurate information as to the location of referenced elevation, effective and modified elevation in feet, and/or communities affected for those flooding sources. In addition, it did not include the following flooding sources: Bear Creek (backwater effects from Cumberland River), Big Renox Creek (backwater effects from Cumberland River), Big Whetstone Creek (backwater effects from Cumberland River), Big Willis Creek (backwater effects from Cumberland River), Brush Creek (backwater effects from Cumberland River), Carter Branch West (backwater effects from Cumberland River), Casey Branch (backwater effects from Dale Hollow Lake), Cedar Creek North (backwater effects from Cumberland River), Clover Creek (backwater effects from Cumberland River), Cumberland River Tributary 32 (backwater effects from Cumberland River), Cumberland River Tributary 55 (backwater effects from Cumberland River), Cumberland River Tributary 57 (backwater effects from Cumberland River), Fanny's Creek (backwater effects from Dale Hollow Lake), Galloway Creek (backwater effects from Cumberland River), Galloway Creek Tributary 3 (backwater effects from Cumberland River), Goose Creek (backwater effects from Cumberland River), Haggard Branch (backwater effects from Cumberland River), Hendricks Creek (backwater effects from Dale Hollow Lake), Hoot Branch (backwater effects from Dale Hollow Lake), Hoot Branch Tributary 1 (backwater effects from Dale Hollow Lake), Judio Creek (backwater effects from Cumberland River), Lewis Creek (backwater effects from Cumberland River), Lewis Creek Tributary 5 (backwater effects from Cumberland River), Little Whetstone Creek (backwater effects from Cumberland River), Little Willis Creek (backwater effects from Cumberland River), Little Willis Creek Tributary 1 (backwater effects from Cumberland River), Marrowbone Creek (backwater effects from Cumberland River), Mud Camp Creek (backwater effects from Cumberland River), Otter Creek (backwater effects from Cumberland River), Perry Cary Hollow (backwater effects from Cumberland River), Potters Creek (backwater effects from Cumberland River), Raft Creek (backwater effects from Cumberland River), Riddle Prong (backwater effects from Dale Hollow Lake), Sulphur Creek (backwater effects from Dale Hollow Lake), and Williams Creek (backwater effects from Dale Hollow Lake). In this notice, FEMA is publishing a table containing the accurate information, to address these prior errors. The information provided below should be used in lieu of that previously published for Cumberland County.

Flooding source(s) | Location of referenced elevation * * | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Cumberland County, Kentucky, and Incorporated Areas
Bear Creek (backwater effects from Cumberland River) | From the Cumberland River confluence to approximately 0.9 mile upstream of the Cumberland River confluence | None | +551 | Unincorpor­ated Areas of Cumberland County.
Big Renox Creek (backwater effects from Cumberland River) | From the Cumberland River confluence to approximately 0.8 mile upstream of the Cumberland River confluence | None | +556 | Unincorpor­ated Areas of Cumberland County.
Big Whetstone Creek (backwater effects from Cumberland River) | From the Cumberland River confluence to approximately 0.5 mile upstream of the Cumberland River confluence | None | +562 | Unincorpor­ated Areas of Cumberland County.
Big Willis Creek (backwater effects from Cumberland River) | From the Cumberland River confluence to approximately 1.5 miles upstream of the Cumberland River confluence | None | +563 | Unincorpor­ated Areas of Cumberland County.
Brush Creek (backwater effects from Cumberland River) | From the Cumberland River confluence to approximately 0.6 mile upstream of the Cumberland River confluence | None | +558 | Unincorpor­ated Areas of Cumberland County.
Carter Branch West (backwater effects from Cumberland River) | From the Cumberland River confluence to approximately 0.6 mile upstream of the Cumberland River confluence | None | +540 | Unincorpor­ated Areas of Cumberland County.
Casey Branch (backwater effects from Dale Hollow Lake) | From the Dale Hollow Lake confluence to approximately 0.5 mile upstream of the Dale Hollow Lake confluence | None | +663 | Unincorpor­ated Areas of Cumberland County.
Cedar Creek North (backwater effects from Cumberland River) | From the Cumberland River confluence to approximately 0.7 mile upstream of the Cumberland River confluence | None | +552 | Unincorpor­ated Areas of Cumberland County.
Clover Creek (backwater effects from Cumberland River) | From the Cumberland River confluence to approximately 0.4 mile upstream of the Cumberland River confluence | None | +550 | Unincorpor­ated Areas of Cumberland County.
Cumberland River | Approximately 3,300 feet downstream of the Judio Creek confluence | None | +533 | City of Burkesville, Unincorpor­ated Areas of Cumberland County.
| Approximately 1,500 feet upstream of the Crow Creek confluence | None | +568
Cumberland River Tributary 32 (backwater effects from Cumberland River) | From the Cumberland River confluence to approximately 0.6 mile upstream of the Cumberland River confluence | None | +555 | Unincorpor­ated Areas of Cumberland County.
Cumberland River Tributary 55 (backwater effects from Cumberland River) | From the Cumberland River confluence to approximately 1,900 feet upstream of the Cumberland River confluence | None | +541 | Unincorpor­ated Areas of Cumberland County.
Cumberland River Tributary 57 (backwater effects from Cumberland River) | From the Cumberland River confluence to approximately 0.6 mile upstream of the Cumberland River confluence | None | +540 | Unincorpor­ated Areas of Cumberland County.
Dale Hollow Lake (Obey River) | Entire shoreline within community | None | +663 | Unincorpor­ated Areas of Cumberland County.
Fanny's Creek (backwater effects from Dale Hollow Lake) | From the Dale Hollow Lake confluence to approximately 1,400 feet upstream of the Dale Hollow Lake confluence | None | +633 | Unincorpor­ated Areas of Cumberland County.
Galloway Creek (backwater effects from Cumberland River) | From the Cumberland River confluence to approximately 0.5 mile upstream of the Cumberland River confluence | None | +544 | Unincorpor­ated Areas of Cumberland County.
Galloway Creek Tributary 3 (backwater effects from Cumberland River) | From the Galloway Creek confluence to approximately 1,400 feet upstream of the Galloway Creek confluence | None | +544 | Unincorpor­ated Areas of Cumberland County.
Goose Creek (backwater effects from Cumberland River) | From the Cumberland River confluence to approximately 0.9 mile upstream of the Cumberland River confluence | None | +555 | Unincorpor­ated Areas of Cumberland County.
Haggard Branch (backwater effects from Cumberland River) | From the Cumberland River confluence to approximately 0.9 mile upstream of the Cumberland River confluence | None | +547 | Unincorpor­ated Areas of Cumberland County.
Hendricks Creek (backwater effects from Dale Hollow Lake) | From the Dale Hollow Lake confluence to approximately 600 feet upstream of the Dale Hollow Lake confluence | None | +663 | Unincorpor­ated Areas of Cumberland County.
Hoot Branch (backwater effects from Dale Hollow Lake) | From the Dale Hollow Lake confluence to approximately 950 feet upstream of the Dale Hollow Lake confluence | None | +663 | Unincorpor­ated Areas of Cumberland County.
Hoot Branch Tributary 1 (backwater effects from Dale Hollow Lake) | From the Hoot Branch confluence to approximately 1,000 feet upstream of the Hoot Branch confluence | None | +663 | Unincorpor­ated Areas of Cumberland County.
Judio Creek (backwater effects from Cumberland River) | From the Cumberland River confluence to approximately 0.7 mile upstream of the Cumberland River confluence | None | +533 | Unincorpor­ated Areas of Cumberland County.
Lewis Creek (backwater effects from Cumberland River) | From the Cumberland River confluence to approximately 1.6 miles upstream of the Cumberland River confluence | None | +554 | Unincorpor­ated Areas of Cumberland County.
Lewis Creek Tributary 5 (backwater effects from Cumberland River) | From the Lewis Creek confluence to approximately 1,200 feet upstream of the Lewis Creek confluence | None | +554 | City of Burkesville, Unincorpor­ated Areas of Cumberland County.
Little Whetstone Creek (backwater effects from Cumberland River) | From the Cumberland River confluence to approximately 0.5 mile upstream of the Cumberland River confluence | None | +562 | Unincorpor­ated Areas of Cumberland County.
Little Willis Creek (backwater effects from Cumberland River) | From the Big Willis Creek confluence to approximately 0.7 mile upstream of the Big Willis Creek confluence | None | +563 | Unincorpor­ated Areas of Cumberland County.
Little Willis Creek Tributary 1 (backwater effects from Cumberland River) | From the Little Willis Creek confluence to approximately 800 feet upstream of the Little Willis Creek confluence | None | +563 | Unincorpor­ated Areas of Cumberland County.
Marrowbone Creek (backwater effects from Cumberland River) | From the Cumberland River confluence to approximately 1,200 feet upstream of the Cumberland River confluence | None | +547 | Unincorpor­ated Areas of Cumberland County.
Mud Camp Creek (backwater effects from Cumberland River) | From the Cumberland River confluence to approximately 1.1 miles upstream of the Cumberland River confluence | None | +539 | Unincorpor­ated Areas of Cumberland County.
Otter Creek (backwater effects from Cumberland River) | From the Cumberland River confluence to approximately 0.5 mile upstream of the Cumberland River confluence | None | +551 | Unincorpor­ated Areas of Cumberland County.
Perry Cary Hollow (backwater effects from Cumberland River) | From the Cumberland River confluence to approximately 1,600 feet upstream of the Cumberland River confluence | None | +534 | Unincorpor­ated Areas of Cumberland County.
Potters Creek (backwater effects from Cumberland River) | From the Cumberland River confluence to approximately 0.7 mile upstream of the Cumberland River confluence | None | +545 | Unincorpor­ated Areas of Cumberland County.
Raft Creek (backwater effects from Cumberland River) | From the Cumberland River confluence to approximately 0.4 mile upstream of the Cumberland River confluence | None | +551 | Unincorpor­ated Areas of Cumberland County.
Riddle Prong (backwater effects from Dale Hollow Lake) | From the Dale Hollow Lake confluence to approximately 0.6 mile upstream of the Dale Hollow Lake confluence | None | +663 | Unincorpor­ated Areas of Cumberland County.
Sulphur Creek (backwater effects from Dale Hollow Lake) | From the Dale Hollow Lake confluence to approximately 0.6 mile upstream of the Dale Hollow Lake confluence | None | +663 | Unincorpor­ated Areas of Cumberland County.
Williams Creek (backwater effects from Dale Hollow Lake) | From the Dale Hollow Lake confluence to approximately 0.5 mile upstream of the Dale Hollow Lake confluence | None | +633 | Unincorpor­ated Areas of Cumberland County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Burkesville
Maps are available for inspection at City Hall, 214 Upper River Street, Burkesville, KY 42717.
Unincorporated Areas of Cumberland County
Maps are available for inspection at the Cumberland County Courthouse, 600 Courthouse Square, Burkesville, KY 42717.

(Catalog of Federal Domestic Assistance No. 97.022, “Flood Insurance.”)

Dated: August 19, 2011.
Sandra K. Knight,
Deputy Federal Insurance and Mitigation Administrator, Mitigation, Department of Homeland Security, Federal Emergency Management Agency.

[FR Doc. 2011-22443 Filed 8-31-11; 8:45 am]

BILLING CODE 9110-12-P